DEPARTMENT OF ENERGY

Federal Energy Regulatory Commission

Comined Notice of Filings #1

November 18, 2009.

Take notice that the Commission received the following electric rate filings:

Docket Numbers: ER97-870-016.

Applicants: Sunoco Power Marketing LLC.

Description: Sunoco Power Marketing, LLC submits an amended Order 697 Compliance Filing and Request for Category I Status.

Filed Date: 11/16/2009.

Accession Number: 20091118-0003.

Comment Date: 5 p.m. Eastern Time on Monday, December 7, 2009.

Docket Numbers: ER97-3359-016.

Applicants: Florida Power & Light Company.

Description: Florida Power & Light Company Notice of Change in Status.

Filed Date: 11/16/2009.

Accession Number: 20091116-5126.

Comment Date: 5 p.m. Eastern Time on Monday, December 7, 2009.

Docket Numbers: ER04-879-001.

Applicants: Sunoco Power Generation, LLC.

Description: Sunoco Power Generation, LLC submits an amended Order 697 Compliance Filing and Request for Category I Status.

Filed Date: 11/16/2009.

Accession Number: 20091118-0002.

Comment Date: 5 p.m. Eastern Time on Monday, December 7, 2009.

Docket Numbers: ER04-449-021.

Applicants: New York Independent System Operator, Inc.

Description: New York Independent System Operator, Inc et al. submit amendments to the New York Independent System Operator, Inc's Open Access Transmission Tariff to implement a funding mechanism for recovery etc.

Filed Date: 11/13/2009.

Accession Number: 20091117-0059.

Comment Date: 5 p.m. Eastern Time on Friday, December 4, 2009.

Docket Numbers: ER08-1297-005; ER01-1071-016; ER08-1293-005; ER08-1294-005; ER06-9-011; ER03-34-015; ER06-1261-010; ER03-1105-012; ER03-1104-012; ER09-138-003; ER09-988-004; ER09-989-004; ER09-832-003; ER98-2076-018; ER98-4222-016; ER08-250-006; ER08-197-009; ER08-1300-005; ER08-1296-005; ER07-174-010.

Applicants: Ashtabula Wind, LLC; Badger Windpower LLC; Crystal Lake Wind, LLC; Crystal Lake Wind II, LLC; FPL Energy Burleigh County Wind, LLC; FPL Energy Hancock County Wind, LLC; FPL Energy Mower County, LLC; FPL Energy North Dakota Wind II, LLC; FPL Energy North Dakota Wind, LLC; FPL Energy Oliver Wind I, LLC; NextEra Energy Duane Arnold, LLC; NextEra Energy Point Beach, LLC; NextEra Energy Power Marketing, LLC; Hawkeye Power Partners, LLC; Lake Benton Power Partners II LLC; Langdon Wind, LLC; FPL Energy Oliver Wind II, LLC; Story Wind, LLC; Osceola Windpower II, LLC; Osceola Windpower, LLC.

Description: NextEra Energy Entities Notification of Non-material Change in Status regarding their market-based rate authorizations in the Central Region.

Filed Date: 11/17/2009.

Accession Number: 20091117-5089.

Comment Date: 5 p.m. Eastern Time on Tuesday, December 8, 2009.

Docket Numbers: ER09-1723-004.

Applicants: Dry Lake Wind Power, LLC.

Description: Dry Lake Wind Power, LLC submits supplemental information in support of its application for market-based rate authorizations.

Filed Date: 11/10/2009.

Accession Number: 20091112-0137.

Comment Date: 5 p.m. Eastern Time on Tuesday, December 1, 2009.

Docket Numbers: ER09-1736-001.

Applicants: Southwest Power Pool, Inc.

Description: Southwest Power Pool, Inc submits revised tariff pages incorporating American Electric Power Service Corp formula rate template originally filed on 9/23/09.

Filed Date: 11/16/2009.

Accession Number: 20091117-0084.

Comment Date: 5 p.m. Eastern Time on Monday, November 23, 2009.

Docket Numbers: ER10-43-001.

Applicants: E.ON U.S. LLC.

Description: E.ON US, LLC submits substitute Network Integration Transmission Service Agreement and Network Operating Agreement for service to Kentucky Municipal Power Agency.

Filed Date: 11/16/2009.

Accession Number: 20091117-0083.

Comment Date: 5 p.m. Eastern Time on Monday, December 7, 2009.

Docket Numbers: ER10-151-000.

Applicants: New York Independent System Operator, Inc.

Description: New York Independent System Operator, Inc. et al. submit an amended and restated engineering, procurement, and construction agreement among New York Independent System Operator, Inc. et al. and request for waiver.

Filed Date: 10/29/2009.

Accession Number: 20091030-0110.

Comment Date: 5 p.m. Eastern Time on Thursday, November 19, 2009.

Docket Numbers: ER10-256-000.

Applicants: FPL Energy Stateline II, Inc.

Description: FPL Energy Stateline II, Inc's request for authorization to sell energy and capacity at market-based rates and Waiver of the 60-day notice requirement.

Filed Date: 11/16/2009.

Accession Number: 20091118-0077.

Comment Date: 5 p.m. Eastern Time on Monday, December 7, 2009.

Docket Numbers: ER10-269-000.

Applicants: 3Degrees Group, Inc.

Description: 3Degrees Group, Inc submits for filing the Petition for Acceptance of Initial Tariff, Waivers and Blanket Authority.

Filed Date: 11/17/2009.

Accession Number: 20091117-0090.

Comment Date: 5 p.m. Eastern Time on Tuesday, December 8, 2009.

Docket Numbers: ER10-270-000.

Applicants: NorthWestern Corporation.

Description: NorthWestern Corporation submits an executed non-conforming Firm Point to Point Service Agreement between NorthWestern et al designated as Service Agreement19-SD under its Open Access Transmission Tariff, etc.

Filed Date: 11/16/2009.

Accession Number: 20091117-0061.

Comment Date: 5 p.m. Eastern Time on Monday, December 7, 2009.

Docket Numbers: ER10-271-000.

Applicants: PJM Interconnection, L.L.C.

Description: PJM Interconnection, LLC submits an executed Wholesale Market Participation Agreement entered into among PJM et al. executed on 10/15/09.

Filed Date: 11/16/2009.

Accession Number: 20091117-0060.

Comment Date: 5 p.m. Eastern Time on Monday, December 7, 2009.

Docket Numbers: ER10-272-000.

Applicants: New York Independent System Operator, Inc.

Description: New York Independent System Operator, Inc submits revisions to its Open Access Transmission Tariff and its Market Administration and Control Area Services Tariff.

Filed Date: 11/16/2009.

Accession Number: 20091117-0051.

Comment Date: 5 p.m. Eastern Time on Monday, December 7, 2009.

Docket Numbers: ER10-273-000.

Applicants: Southwest Power Pool Inc.

Description: Southwest Power Pool, Inc submits revised pages to its Open Access Transmission Tariff intended to implement rate changes etc.

Filed Date: 11/16/2009.

Accession Number: 20091117-0052.

Comment Date: 5 p.m. Eastern Time on Monday, December 7, 2009.

Docket Numbers: ER10-274-000.

Applicants: Entergy Services, Inc.

Description: Entergy Arkansas, Inc submits amended rate schedule providing for power coordination and interchange services to East Texas Electric Cooperative, Inc.

Filed Date: 11/16/2009.

Accession Number: 20091117-0053.

Comment Date: 5 p.m. Eastern Time on Monday, December 7, 2009.

Docket Numbers: ER10-276-000.

Applicants: Rolling Thunder I Power Partners, LLC.

Description: Rolling Thunder I Power Partners, LLC submits its proposed FERC Electric Tariff, Original Volume 1, pursuant to which Rolling Thunder I may make wholesale sales of electric capacity et al.

Filed Date: 11/17/2009.

Accession Number: 20091118-0076.

Comment Date: 5 p.m. Eastern Time on Tuesday, December 8, 2009

.

Docket Numbers: ER10-277-000.

Applicants: Midwest Independent Transmission System Operator, Inc.

Description: Midwest Independent Transmission System Operator, Inc submits five copies of a proposed revision to its Open Access Transmission Energy and Operating Reserve Market Tariff etc.

Filed Date: 11/16/2009.

Accession Number: 20091117-0085.

Comment Date: 5 p.m. Eastern Time on Monday, December 7, 2009.

Docket Numbers: ER10-278-000.

Applicants: NationalGrid USA.

Description: Request of National Grid USA for Expedited Consideration and Temporary Waiver of Qualification Process Reimbursement Deposit Due Date under Section III.13.1.9.3 of the ISO-NE Tariff.

Filed Date: 11/17/2009.

Accession Number: 20091117-5034.

Comment Date: 5 p.m. Eastern Time on Wednesday, November 25, 2009.

Docket Numbers: ER10-279-000.

Applicants: Midwest Independent Transmission System Operator, Inc.

Description: Midwest Independent Transmission System Operator, Inc submits the proposed revisions to its Open Access Transmission, Energy and Operating Reserve Markets Tariff etc.

Filed Date: 11/16/2009.

Accession Number: 20091117-0086.

Comment Date: 5 p.m. Eastern Time on Monday, December 7, 2009.

Docket Numbers: ER10-280-000.

Applicants: Laidlaw Berlin BioPower, LLC.

Description: Stinson Morrison Hecker LLP submits Request of Laidlaw Berling BioPower, LLC for Limited Waiver of Qualification Process Cost Reimbursement Deposit Deadline under Transmission et al.

Filed Date: 11/17/2009.

Accession Number: 20091117-0081.

Comment Date: 5 p.m. Eastern Time on Wednesday, November 25, 2009.

Docket Numbers: ER10-282-000.

Applicants: PJM Interconnection, LLC.

Description: PJM Interconnection, LLC submits an executed interconnection agreement with Meadow Lake Wind Farm, LLC et al.

Filed Date: 11/17/2009.

Accession Number: 20091117-0089.

Comment Date: 5 p.m. Eastern Time on Tuesday, December 8, 2009.

Docket Numbers: ER10-284-000.

Applicants: Southern California Edison Company.

Description: Southern California Edison Company submits a letter agreement between Southern California Edison Company and First Solar Development, Inc.

Filed Date: 11/16/2009.

Accession Number: 20091117-0088.

Comment Date: 5 p.m. Eastern Time on Monday, December 7, 2009.

Take notice that the Commission received the following electric securities filings:

Docket Numbers: ES09-59-001.

Applicants: National Grid USA.

Description: Amendment to Application of National Grid USA, Request for Shortened Comment Period, and Request for Expedited Action.

Filed Date: 11/16/2009.

Accession Number: 20091116-5143.

Comment Date: 5 p.m. Eastern Time on Friday, November 27, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-28282 Filed 11-24-09; 8:45 am]

BILLING CODE 6717-01-P